NUCLEAR REGULATORY COMMISSION

[Docket No. 72-01; NRC-2020-0158]

GE Hitachi Nuclear Energy, LLC

AGENCY: Nuclear Regulatory Commission.

ACTION: Exemption; issuance.

SUMMARY: The U.S. Nuclear Regulatory Commission (NRC) issued an exemption in response to a request from GE Hitachi Nuclear Energy, LLC (GEH) related to the COVID-19 public health emergency (PHE). The exemption allows GEH to submit a renewal application for the Morris Operation Independent Spent Fuel Storage Installation (ISFSI) license, Special Nuclear Materials (SNM) License No. SNM-2500, after the timely renewal due date, while continuing to be afforded protection of the timely renewal provision contained in NRC regulations.

DATES: The exemption was issued on May 13, 2020.

ADDRESSES: Please refer to Docket ID NRC-2020-0158 when contacting the NRC about the availability of information regarding this document. You may obtain publicly-available information related to this document using any of the following methods:

• Federal Rulemaking Website: Go to https://www.regulations.gov and search for Docket ID NRC-2020-0158. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov.

For the convenience of the reader, instructions about obtaining materials referenced in this document are provided in the “Availability of Documents” section.

FOR FURTHER INFORMATION CONTACT: John McKirgan, Office of Nuclear Material Safety and Safeguards, U.S. Nuclear Regulatory Commission, Washington, DC 20555-0001; telephone: 301-415-5722, email: John.McKirgan@nrc.gov.

SUPPLEMENTARY INFORMATION:

I. Introduction

The NRC issued an exemption in response to a request from GEH, dated April 30, 2020. The exemption allows GEH to submit a renewal application for the Morris Operation ISFSI license, SNM-2500, after the timely renewal due date of May 31, 2020, while continuing to be afforded protection of the timely renewal provision contained in § 72.42(c) of title 10 of the Code of Federal Regulations (10 CFR). GEH requested an extension of the date to submit the license renewal application to on or before July 31, 2020, as state restrictions on business activities as a result of the COVID-19 PHE have caused reduced staffing, impacted work schedules, and limited facility and information access necessary for GEH to prepare its license renewal application by the timely renewal due date. The extension will allow GEH to provide a complete license renewal application for NRC to review.

The NRC publishes a list of approved licensing actions related to the COVID-19 PHE on its public website at https://www.nrc.gov/about-nrc/covid-19/materials/storage.html.

II. Availability of Documents

The table below provides the ADAMS Accession Numbers for the exemption issued. For additional directions on accessing information in ADAMS, see the ADDRESSES section of this document.

Document title | ADAMS Accession No.
Request to Extend the Due Date for Submitting the GEH Morris Operation License Renewal Application | ML20121A272
Issuance of Exemption from 10 CFR 72.42(c) for GEH Morris Operation ISFSI | ML20134H886

The NRC may post additional materials to the Federal Rulemaking website at https://www.regulations.gov, under Docket ID NRC-2020-0158. The Federal Rulemaking website allows you to receive alerts when changes or additions occur in a docket folder. To subscribe: (1) Navigate to the docket folder (NRC-2020-0158); (2) click the “Sign up for Email Alerts” link; and (3) enter your email address and select how frequently you would like to receive emails (daily, weekly, or monthly).

Dated: June 29, 2020.
For the Nuclear Regulatory Commission.
John B. McKirgan,
Chief, Storage and Transportation Licensing Branch, Division of Fuel Management, Office of Nuclear Material Safety and Safeguards.

[FR Doc. 2020-14303 Filed 7-1-20; 8:45 am]

BILLING CODE 7590-01-P